DEPARTMENT OF ENERGY

Federal Energy Regulatory Commission

[Docket No. RP95-364-012]

Williston Basin Interstate Pipeline Company; Notice of Compliance Filing

December 13, 2000.

Take notice that on December 6, 2000, Williston Basin Interstate Pipeline Company (Williston Basin), tendered for filing as part of its FERC Gas Tariff, Second Revised Volume No. 1 and Original Volume No. 2, certain revised tariff sheets listed on Appenidx A to the filing.

Williston basin states that the revised tariff sheets were filed in compliance with the Commission's ``Order Accepting Settlement as Modified'' issued November 21, 2000 in the above-reference docket, as more fully described in the filing.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 00-32273 Filed 12-18-00; 8:45 am]

BILLING CODE 6717-01-M